DEPARTMENT OF COMMERCE

International Trade Administration

[A-552-833]

Raw Honey From the Socialist Republic of Vietnam: Final Results of Antidumping Duty Administrative Review; 2021-2023; Correction

AGENCY: Enforcement and Compliance, International Trade Administration, Department of Commerce.

ACTION: Notice; correction.

SUMMARY: The U.S. Department of Commerce (Commerce) published notice in the Federal Register of April 14, 2025, in which Commerce published the affirmative antidumping duty (AD) final results in the administrative review of raw honey from the Socialist Republic of Vietnam (Vietnam) for the period of review (POR) August 25, 2021, through May 31, 2023. Commerce incorrectly identified certain companies which it found were not entitled to a separate rate. Additionally, in that notice, Commerce failed to correctly provide the complete names for certain separate rate companies.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On April 14, 2025, Commerce published in the Federal Register the final results in the AD administrative review of raw honey from Vietnam.¹ In the “Separate Rates” section of that notice, Commerce incorrectly identified certain companies which it found were not entitled to a separate rate. Additionally, we inadvertently did not state the complete names for certain companies in the first column within the table of the “Final Results of Review” section.

¹ See Raw Honey from the Socialist Republic of Vietnam: Final Results of Antidumping Duty Administrative Review; 2021-2023, 90 FR 15553 (April 14, 2025).

Corrections

In the Federal Register of April 14, 2025, in FR Doc 2025-06287, on page 15553, in the “Separate Rates” section, correct the list of company names as follows:

(1) Bee Honey Corporation of Ho Chi Minh City; (2) Golden Bee Company Limited; (3) Golden Honey Co., Ltd.; (4) Hai Phong Honeybee Company Limited; (5) Highlands Honeybee Travel Co., Ltd.; (6) Hung Binh Phat; (7) Hung Thinh Trading Pvt; (8) Phong Son Co., Ltd.; (9) Saigon Bees Co., Limited; (10) Thai Hoa Mat Bees Raising Co., Ltd.; (11) Thai Hoa Viet Mat Bees Raising Co.; (12) TNB Foods Co., Ltd.; and (13) Vinawax Producing Trading and Service Company Limited.

Additionally, in FR Doc 2025- 06287, on page 15554, in the first column containing the table of the “Final Results of Review” section, correct the incomplete names for certain companies as follows: (1) Daisy Honey Bee J.S.C., Daisy Honey Bee Joint Stock Company, Daisy Honey Bee JSC; (2) Dak Nguyen Hong Exploitation of Honey Company Limited TA, Nguyen Hong Honey Co., LTDTA; (3) Hoa Viet Honey Bee Co., Ltd., Hoa Viet Honeybee One Member Company Limited, Hoa Viet Honeybee Co., Ltd.; (4) Hoang Tri Honey Bee Company Limited, H. T. Honey Co., Ltd.; (5) Huong Rung Co., Ltd., Huong Rung Trading—Investment and Export Company; and (6) Viet Thanh Food Technology Development Investment Company Limited, Viet Thanh Food Co., Ltd.

The corrected table should appear as follows:

Exporter | Weighted-average dumping margin (percent)
Ban Me Thuot Honeybee Joint Stock Company | 100.72
Daklak Honeybee Joint Stock Company | 156.96
Bao Nguyen Honeybee Co., Ltd | 121.97
Daisy Honey Bee J.S.C., Daisy Honey Bee Joint Stock Company, Daisy Honey Bee JSC | 121.97
Dak Nguyen Hong Exploitation of Honey Company Limited TA, Nguyen Hong Honey Co., LTDTA | 121.97
Dongnai HoneyBee Corporation | 121.97
Hanoi Honey Bee Joint Stock Company | 121.97
Hoa Viet Honey Bee Co., Ltd., Hoa Viet Honeybee One Member Company Limited, Hoa Viet Honeybee Co., Ltd | 121.97
Hoang Tri Honey Bee Company Limited, H.T. Honey Co., Ltd | 121.97
Huong Rung Co., Ltd., Huong Rung Trading—Investment and Export Company | 121.97
Nhieu Loc Company Limited | 121.97
Southern Honey Bee Company Ltd | 121.97
Spring Honeybee Co., Ltd | 121.97
Thanh Hao Bees Co., Ltd | 121.97
Viet Thanh Food Technology Development Investment Company Limited, Viet Thanh Food Co., Ltd | 121.97

Notification to Interested Parties

This notice is issued and published in accordance with sections 703(f) and 777(i) of the Tariff Act of 1930, as amended, and 19 CFR 351.205(c).

Dated: May 8, 2025.
Christopher Abbott,
Deputy Assistant Secretary for Policy and Negotiations, performing the non-exclusive functions and duties of the Assistant Secretary for Enforcement and Compliance.

[FR Doc. 2025-08605 Filed 5-14-25; 8:45 am]

BILLING CODE 3510-DS-P